DEPARTMENT OF ENERGY

Federal Energy Regulatory Commission

Combined Notice of Filings #1

Take notice that the Commission received the following electric corporate filings:

Docket Numbers: EC17-120-000.

Applicants: Viridity Energy Solutions Inc., ORIX Corporation.

Description: Application of Viridity Energy Solutions Inc., et al. for Authorization under Section 203 of the Federal Power Act.

Filed Date: 5/19/17.

Accession Number: 20170519-5244.

Comments Due: 5 p.m. ET 6/9/17.

Take notice that the Commission received the following electric rate filings:

Docket Numbers: ER10-2331-065; ER10-2317-056; ER10-2319-056; ER10-2330-063; ER13-1351-038.

Applicants: J.P. Morgan Ventures Energy Corporation, BE Alabama LLC, BE CA LLC, Florida Power Development LLC, Utility Contract Funding, L.L.C.

Description: Notice of Non-Material Change in Status of the J.P. Morgan Sellers.

Filed Date: 5/19/17.

Accession Number: 20170519-5258.

Comments Due: 5 p.m. ET 6/9/17.

Docket Numbers: ER17-1610-001.

Applicants: Southwest Power Pool, Inc.

Description: Tariff Amendment: Mountrail-Williams Electric Cooperative Formula Rate Ministerial Filing to be effective 7/1/2017.

Filed Date: 5/19/17.

Accession Number: 20170519-5220.

Comments Due: 5 p.m. ET 6/9/17.

Docket Numbers: ER17-1629-001.

Applicants: New York Independent System Operator, Inc.

Description: Tariff Amendment: Amendment to properly locate proposed new Section 6.17 in the OATT to be effective 7/18/2017.

Filed Date: 5/22/17.

Accession Number: 20170522-5058.

Comments Due: 5 p.m. ET 6/12/17.

Docket Numbers: ER17-1641-000.

Applicants: Midcontinent Independent System Operator, Inc., Ameren Illinois Company.

Description: § 205(d) Rate Filing: 2017-05-19_SA 3016 ATXI-UEC-AIC TIA to be effective 5/19/2017.

Filed Date: 5/19/17.

Accession Number: 20170519-5201.

Comments Due: 5 p.m. ET 6/9/17.

Docket Numbers: ER17-1642-000.

Applicants: Southwest Power Pool, Inc.

Description: § 205(d) Rate Filing: Amendment to AEP Depreciation Rates (ER17-829) to be effective 1/15/2016.

Filed Date: 5/19/17.

Accession Number: 20170519-5209.

Comments Due: 5 p.m. ET 6/9/17.

Docket Numbers: ER17-1643-000.

Applicants: Southwest Power Pool, Inc.

Description: § 205(d) Rate Filing: Revisions to Attachment AE to Modify Offer Database Roll Forward Logic to be effective 7/20/2017.

Filed Date: 5/19/17.

Accession Number: 20170519-5239.

Comments Due: 5 p.m. ET 6/9/17.

Docket Numbers: ER17-1644-000.

Applicants: Idaho Power Company.

Description: § 205(d) Rate Filing: Removal of Simultaneous Submission Window to be effective 7/19/2017.

Filed Date: 5/22/17.

Accession Number: 20170522-5000.

Comments Due: 5 p.m. ET 6/12/17.

Docket Numbers: ER17-1645-000.

Applicants: Southwest Power Pool, Inc.

Description: § 205(d) Rate Filing: 3325 WAPA & Corn Belt Power Interconnection Agreement to be effective 5/2/2017.

Filed Date: 5/22/17.

Accession Number: 20170522-5015.

Comments Due: 5 p.m. ET 6/12/17.

Docket Numbers: ER17-1646-000.

Applicants: Midcontinent Independent System Operator, Inc.

Description: § 205(d) Rate Filing: 2017-05-22_SA 3015 Red Lake Falls-OTP GIA (R101) to be effective 5/23/2017.

Filed Date: 5/22/17.

Accession Number: 20170522-5039.

Comments Due: 5 p.m. ET 6/12/17.

Docket Numbers: ER17-1647-000.

Applicants: Midcontinent Independent System Operator, Inc.

Description: § 205(d) Rate Filing: 2017-05-22_SA 2194 Elk Wind Energy-ITC GIA (H007 J443) to be effective 5/23/2017.

Filed Date: 5/22/17.

Accession Number: 20170522-5041.

Comments Due: 5 p.m. ET 6/12/17.

Docket Numbers: ER17-1649-000.

Applicants: Florida Power & Light Company.

Description: § 205(d) Rate Filing: FPL-FMPA Service Agreement No. 274 to be effective 10/1/2017.

Filed Date: 5/22/17.

Accession Number: 20170522-5124.

Comments Due: 5 p.m. ET 6/12/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2017.
Kimberly D. Bose,
Secretary.

[FR Doc. 2017-10826 Filed 5-25-17; 8:45 am]

BILLING CODE 6717-01-P